DEPARTMENT OF THE INTERIOR

Bureau of Land Management

[LLWYP00000-L51100000-GA0000-LVEMK09CK350; WYW173360 and WYW180711]

Notice of Availability of the Record of Decision for the South Gillette Area Maysdorf II Coal Lease-by-Application and Environmental Impact Statement, Wyoming

AGENCY: Bureau of Land Management, Interior.

ACTION: Notice of availability.

SUMMARY: In accordance with the National Environmental Policy Act of 1969, the Bureau of Land Management (BLM) announces the availability of the Record of Decision (ROD) for the Maysdorf II Coal Lease-by-Application (LBA) included in the South Gillette Area Coal Lease Applications Final Environmental Impact Statement (EIS).

ADDRESSES: The document is available electronically on the following Web site: http://www.blm.gov/wy/st/en/info/NEPA/documents/hpd/SouthGillette.html. Paper copies of the ROD are also available at the following BLM office locations:

• Bureau of Land Management, Wyoming State Office, 5353 Yellowstone Road, Cheyenne, Wyoming 82009; and

• Bureau of Land Management, Wyoming High Plains District Office, 2987 Prospector Drive, Casper, Wyoming 82604.

FOR FURTHER INFORMATION CONTACT: Ms. Kathy Muller Ogle, Coal Program Coordinator, at 307-775-6206, or Ms. Teresa Johnson, EIS Project Manager, at 307-261-7510. Ms. Ogle's office is located at the BLM Wyoming State Office, 5353 Yellowstone Road, Cheyenne, Wyoming 82009. Ms. Johnson's office is located at the BLM Wyoming High Plains District Office, 2987 Prospector Drive, Casper, Wyoming 82604. Persons who use a telecommunications device for the deaf (TDD) may call the Federal Information Relay Service (FIRS) at 1-800-877-8339 to contact the above individuals during normal business hours. The FIRS is available 24 hours a day, 7 days a week, to leave a message or question with the above individuals. You will receive a reply during normal business hours.

SUPPLEMENTARY INFORMATION: The ROD covered by this Notice of Availability (NOA) is for the Maysdorf II Coal Tract and addresses leasing Federal coal in Campbell County, Wyoming, administered by the BLM Wyoming High Plains District Office. The BLM approves Alternative 3, the preferred alternative for this LBA in the South Gillette Area Coal Final EIS. Under Alternative 3, the Maysdorf II coal LBA area, as modified by the BLM, will be divided into two separate LBA tracts referred to as the Maysdorf II North Tract and the Maysdorf II South Tract. The Maysdorf II North Tract (WYW173360), as modified by the BLM, includes 1,338.37 acres, more or less, and contains an estimated 167 million tons of in-place Federal coal reserves. The Maysdorf II South Tract (WYW180711), as modified by the BLM, includes 2,305.90 acres, more or less, and contains an estimated 271 million tons of in-place Federal coal reserves. The BLM will announce two competitive coal lease sales in the Federal Register at a later date. The Environmental Protection Agency published a Federal Register notice announcing the Final EIS was publicly available on August 21, 2009 (74 FR 42295). This decision is subject to appeal to the Interior Board of Land Appeals (IBLA), as provided in 43 CFR part 4, within thirty (30) days from the date of publication of this NOA in the Federal Register. The ROD contains instructions for filing an appeal with the IBLA.

Mary E. Trautner,
Acting State Director.

[FR Doc. 2012-21459 Filed 8-29-12; 8:45 am]

BILLING CODE 4310-22-P